DEPARTMENT OF TRANSPORTATION

Federal Aviation Administration

14 CFR Part 39

[Docket No. FAA-2010-1190; Directorate Identifier 2010-SW-038-AD]

RIN 2120-AA64

Airworthiness Directives; Apical Industries Inc. (Apical) Emergency Float Kits

AGENCY: Federal Aviation Administration, DOT.

ACTION: Notice of proposed rulemaking (NPRM).

SUMMARY: This document proposes adopting a new airworthiness directive (AD) for the Apical emergency float kits installed on certain model helicopters under supplemental type certificates. This proposal would require adding placards on each side of the fuselage to identify the location and operation of the liferaft external inflation handle. The proposal would also require replacing each liferaft operation placard to state that external liferafts are installed. This proposal is prompted by a report of a helicopter that crashed into the water, and the pilot did not deploy the floats and liferafts. Two external T-handles were available for deployment of the liferafts but were not used by the passengers because they were unaware of their location. The proposed actions are intended to prevent helicopter occupants from further injury due to unnecessary exposure to harsh water conditions and to aid in deploying liferafts when liferafts are available on the helicopter and can be activated after a water landing.

DATES: Comments must be received on or before February 7, 2011.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Apical Industries, Inc., 2608 Temple Heights Drive, Oceanside, California 92056-3512, telephone (760) 724-5300, fax (760) 758-9612.

You may examine the comments to this proposed AD in the AD docket on the Internet at http://www.regulations.gov.

FOR FURTHER INFORMATION CONTACT: Venessa Stiger, Aviation Safety Engineer, FAA, Los Angeles Aircraft Certification Office, 3960 Paramount Blvd., Lakewood, California 90712-4137, telephone (562) 627-5337, fax (562) 627-5210.

SUPPLEMENTARY INFORMATION:

Comments Invited

We invite you to submit any written data, views, or arguments regarding this proposed AD. Send your comments to the address listed under the caption ADDRESSES. Include the docket number “FAA-2010-1190, Directorate Identifier 2010-SW-038-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for the Apical emergency float kits installed on certain model helicopters under Supplemental Type Certificate Number SR01535LA, SR01779LA, SR01813LA, SR01855LA, or SR00856LA. This proposal would require adding external placards (one on each side of the fuselage or crosstubes) to identify the location and operation of the liferaft external inflation handle. The proposal would also require replacing each liferaft operation placard to state that external liferafts are installed. This proposal is prompted by a report of a helicopter that crashed into the water, and the pilot did not deploy the floats or the liferafts. Two external T-handles were available for deployment of the liferafts but were not used because the passengers were unaware of their location. This condition, if not corrected, could result in unnecessary injury or loss of life in the event of a helicopter landing in the water.

We have reviewed Apical Alert Service Bulletin No. SB2008-01, Revision A, dated March 3, 2010 (ASB), which describes procedures for installing a Liferaft External Inflation Handle Placard, part number (P/N) 600.0897, onto the crosstube or fuselage of each affected helicopter. The ASB also provides instructions for replacing the previous Liferaft Operation Placard, P/N 634.9703, located “typically above an exit”with a revised version (Revision C) stating that the aircraft is equipped with external liferafts.

This unsafe condition is likely to exist or develop on other helicopters of these same type designs modified with an Emergency Float with a Liferaft Kit pursuant to a supplemental type certificate issued to Apical Industries, Inc. Therefore, for those affected model helicopters, the proposed AD would require installing a Liferaft External Inflation Handle Placard, P/N 600.0897, onto the crosstube or fuselage. Also, the AD would require replacing the Liferaft Operation Placard, P/N 634.9703. The actions would be required to be done by following the ASB described previously.

We estimate that this proposed AD would affect 324 helicopters of U.S. registry, and the proposed actions would take about ½ work hour per helicopter to install 4 or 6 placards at an average labor rate of $85 per work hour. Required parts would cost about $70 per helicopter. Based on these figures, we estimate the total cost impact of the proposed AD on U.S. operators to be $36,450 for the entire fleet.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Apical Industries Inc.: Docket No. FAA-2010-1190; Directorate Identifier 2010-SW-038-AD.

Applicability: The helicopter models, certificated in any category, with an Emergency Float Kit with a part number (P/N) and serial number (S/N), installed by supplemental type certificate (STC), as follows:

Kit P/N | Kit S/N | Affected helicopter model | STC No.
614.3001 | 080 and below | Bell Helicopter Textron (Bell) 407 | SR01535LA
614.3003 | 133 and below | Bell 206L, L-1, L-3, and L-4 | SR01535LA
614.3007 | 014 and below | Bell 206A and B | SR01535LA
614.7601 | 045 and below | Bell 210, 212, 412, 412CF, 412EP, AB412, and AB412EP | SR01779LA
634.2901 | 012 and below | Bell 427 | SR01813LA
644.1801 | 031 and below | Eurocopter Deutschland Gmbh (Eurocopter) EC135 | SR01855LA
20430-300 | 009 and below | Eurocopter BO-105A, C, S, LS A-1 and LS A-3 | SR00856LA

Compliance: Within 180 days, unless accomplished previously.

To install placards to aid in locating and deploying liferafts to prevent further injury or loss of life in the event of a helicopter landing in the water, do the following:

(a) Install the Liferaft External Inflation Handle Placard, P/N 600.0897, shown in Figure 1 of Apical Industries Inc. Alert Service Bulletin SB2008-01, Revision A, dated March 3, 2010 (ASB), on the crosstubes or fuselage near the external T-Handles, as shown for two model helicopters in Figures 2 and 3, by following the Accomplishment Instructions, 1.0, paragraphs 1 through 5, of the ASB.

(b) Remove the Liferaft Operation Placard, P/N 634.9703, Revision N/C through B, as shown in Figure 4 of the ASB, and install Liferaft Operation Placard, P/N 634.9703, Revision C, as shown in Figure 5, above all aircraft exits, inside the aircraft in plain view.

(c) To request a different method of compliance or a different compliance time for this AD, follow the procedures in 14 CFR 39.19. Contact the Manager, Los Angeles Aircraft Certification Office, FAA, Attn: Venessa Stiger, Aviation Safety Engineer, 3960 Paramount Blvd., Lakewood, California 90712-4137, telephone (562) 627-5337, fax (562) 627-5210, for information about previously approved alternative methods of compliance.

(d) The Joint Aircraft System/Component (JASC) Codes are 2564: Liferaft and 3212: Emergency Flotation Section.

Issued in Fort Worth, Texas, on November 22, 2010.
Lance T. Gant,
Acting Manager, Rotorcraft Directorate, Aircraft Certification Service.

[FR Doc. 2010-30616 Filed 12-6-10; 8:45 am]

BILLING CODE 4910-13-P